DEPARTMENT OF THE TREASURY

Office of the Comptroller of the Currency

Agency Information Collection Activities: Information Collection Revision; Submission for OMB Review; Diversity Self-Assessment Template for OCC-Regulated Entities

AGENCY: Office of the Comptroller of the Currency (OCC), Treasury.

ACTION: Notice and request for comment.

SUMMARY: The OCC, as part of its continuing effort to reduce paperwork and respondent burden, invites the general public and other Federal agencies to take this opportunity to comment on a revised information collection, as required by the Paperwork Reduction Act of 1995 (PRA). The OCC may not conduct or sponsor, and a respondent is not required to respond to, an information collection unless it displays a currently valid Office of Management and Budget (OMB) control number. The OCC previously received OMB approval for a voluntary information collection in the Final Interagency Policy Statement Establishing Joint Standards for Assessing the Diversity Policies and Practices of Entities Regulated by the Agencies (Policy Statement). The OCC now is soliciting comment on a revised information collection which adds a “Diversity Self-Assessment Template for OCC-Regulated Entities” (Template) to facilitate the self-assessment described in the Policy Statement. The OCC also is giving notice that it has sent the collection to OMB for review.

DATES: Comments must be submitted on or before December 19, 2016.

ADDRESSES: Because paper mail in the Washington, DC area and at the OCC is subject to delay, commenters are encouraged to submit comments by email, if possible. Comments may be sent to: Legislative and Regulatory Activities Division, Office of the Comptroller of the Currency, Attention: 1557-0334, 400 7th Street SW., Suite 3E-218, Mail Stop 9W-11, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information with your comment, attachment, or supporting materials that you consider confidential or inappropriate for public disclosure.

Additionally, please send a copy of your comments by mail to: OCC Desk Officer, 1557-0334, U.S. Office of Management and Budget, 725 17th Street NW., #10235, Washington, DC 20503 or by email to: oira submission@omb.eop.gov.

FOR FURTHER INFORMATION CONTACT: Shaquita Merritt, OCC Clearance Officer, (202) 649-5490 or, for persons who are deaf or hard of hearing, TTY, (202) 649-5597, Legislative and Regulatory Activities Division, Office of the Comptroller of the Currency, 400 7th Street SW., Suite 3E-218, Mail Stop 9W-11, Washington, DC 20219.

SUPPLEMENTARY INFORMATION: Under the PRA (44 U.S.C. 3501-3520), certain Federal agencies must obtain approval from OMB for each collection of information that they conduct or sponsor. “Collection of information” is defined in 44 U.S.C. 3502(3) (and 5 CFR 1320.3(c) of the PRA implementing regulations) to include agency requests or requirements that members of the public submit reports, keep records, or provide information to a third party. The OCC is requesting that OMB approve its proposed revision to the collection of information.

Title: Diversity Self-Assessment Template for OCC-Regulated Entities.

OMB Control No.: 1557-0334.

Description: The OCC previously received OMB approval for a voluntary information collection with respect to the Policy Statement, pursuant to which entities regulated by the OCC voluntarily self-assess their diversity policies and practices.¹ This proposed revision to that collection would add the Template to assist with the self-assessment. The Template (1) asks for general information about a respondent; (2) includes a checklist of the standards set forth in the Policy Statement; (3) seeks additional diversity data; and (4) provides an opportunity for a respondent to provide other information regarding or comment on the self-assessment of its diversity policies and practices. A draft of this Template can be viewed at www.occ.gov/divselfassessment.

¹ 80 FR 33016 (June 10, 2015).

The OCC estimates that use of the Template would reduce the average response time for this collection per respondent from 12 hours to 8 hours. The OCC may use the information submitted by the entities it regulates to monitor progress and trends in the financial services industry with regard to diversity and inclusion in employment and contracting activities and to identify and highlight those policies and practices that have been successful. The OCC will continue to reach out to the regulated entities and other interested parties to discuss diversity and inclusion in the financial services industry and share leading practices. The OCC may also publish information disclosed by the entity, such as any identified leading practices, in any form that does not identify a particular institution or individual or disclose confidential business information.

Type of Review: Revision.

Affected Public: Businesses or other for-profit.

Burden Estimates:

Number of Respondents: 215.

Revised Annual Burden for Policy Statement and Template: 8 hours.

Total Burden: 1,720 hours.

Frequency of Response: Annual.

Comments: On August 25, 2016, the OCC issued a 60-day notice soliciting comments on the revision to the information collection. See 81 FR 58553. The comment period closed on October 24, 2016, and the OCC received one comment from an individual who raised several issues.

First, the commenter stated that use of the Template would not reduce a regulated entity's collection burden. We believe, however, that the structured format and layout of the Template is easy to use and thereby simplifies the information collection. We expect that this will reduce the time it takes to complete a self-assessment based on the Joint Standards. Furthermore, similar information currently provided in response to required EEOC and OFCCP annual reports, can be easily recorded on the self-assessment Template.

Second, the commenter stated that the OCC's publication of a Template creates the impression that the Policy Statement and Template set out mandatory, not voluntary, standards. The OCC does not intend to create this impression and notes that the Template itself states that “a self-assessment by the organization is voluntary.” The Policy Statement itself also makes the voluntary nature of a self-assessment clear. Third, the commenter asserted that the Template's yes/no structure is overly simplistic. The OCC notes, however, that while an entity's self-assessment of each standard begins with a yes/no response, the entity also is asked about the relevant successes and/or challenges associated with each standard. In addition, at the end of the Template, respondents are invited to provide any “other important information or comments regarding the self-assessment of their diversity and inclusion policies and practices.”

Finally, the commenter asserts that by publishing the Template, the agency has effectively foreclosed the possibility of a better self-assessment framework. To the contrary, the Template invites a regulated entity to “utilize this Template or its own assessment tool.” In addition, the OCC specifically asked the public in its 60-day notice for “[w]ays to enhance the quality, utility, and clarity of the information to be collected” and asks this same question again below. We welcome the public to share with us, and with other regulated entities, any framework or tool that facilitates a regulated entity's diversity self-assessment.

In addition, we continue to invite comments on the following:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: November 10, 2016.
Karen Solomon,
Deputy Chief Counsel, office of the Comptroller of the Currency.

[FR Doc. 2016-27712 Filed 11-17-16; 8:45 am]

BILLING CODE 4810-33-P